OFFICE OF THE UNITED STATES TRADE REPRESENTATIVE

[Docket Number USTR-2023-0013]

Submission of Post-Hearing Comments: Operation of the United States-Mexico-Canada Agreement With Respect to Trade in Automotive Goods

AGENCY: Office of the United States Trade Representative (USTR).

ACTION: Notice and request for post-hearing comments.

SUMMARY: On February 7, 2024, the Office of the United States Trade Representative (USTR) and the Interagency Committee on Trade in Automotive Goods (Committee) held a virtual public hearing to receive oral testimony related to the biennial review of the operation of the United States-Mexico-Canada Agreement (USMCA) with respect to trade in automotive goods. USTR is accepting post-hearing comments until February 28, 2024.

DATES: February 28, 2024 at 5 p.m. EST: Deadline for submission of post-hearing briefs or supplementary materials related to the virtual public hearing.

ADDRESSES: USTR strongly prefers electronic submissions made through the Federal rulemaking Portal: https://www.regulations.gov/ (Regulations.gov). Follow the instructions for submitting written submissions in section II below, using docket number USTR-2023-0013. For alternatives to on-line submissions, please contact Justin Hoffmann, Deputy Assistant U.S. Trade Representative for Market Access and Industrial Competitiveness, in advance of the deadline at (202) 395-2990 or Justin.D.Hoffmann@ustr.eop.gov.

FOR FURTHER INFORMATION CONTACT: Justin Hoffmann, Deputy Assistant U.S. Trade Representative for Market Access and Industrial Competitiveness at (202) 395-2990 or Justin.D.Hoffmann@ustr.eop.gov.

SUPPLEMENTARY INFORMATION:

I. Background

In a notice published on November 22, 2023 (88 FR 81527) (November 22 notice), USTR requested public comments for the biennial review of the USMCA with respect to trade in automotive goods, and announced a virtual public hearing that was held on February 7, 2024. The November 22 notice included the hearing date, as well as the deadlines for requests to testify and the submission of written comments. An announcement regarding post-hearing submissions was made during the February 7, 2024 virtual hearing, and the transcript of the hearing will be available on Regulations.gov under Docket Number USTR-2023-0013.

This notice announces that interested parties may submit post-hearing briefs, supplementary materials, and statements by 5 p.m. EST on February 28, 2024.

II. Procedures for Written Submissions

To be assured of consideration, submit your post-hearing briefs or supplementary materials by the February 28, 2024, 5 p.m. EST deadline. All submissions must be in English. USTR strongly encourages submissions via Regulations.gov, using Docket Number USTR-2023-0013.

To make a submission via Regulations.gov, enter Docket Number USTR-2023-0013 in the `search for' field on the home page and click `search.' The site will provide a search results page listing all documents associated with this docket. Find a reference to this notice by selecting `notice' under `document type' in the `refine documents results' section on the left side of the screen and click on the link entitled `comment.' Regulations.gov allows users to make submissions by filling in a `type comment' field, or by attaching a document using the `upload file' field. USTR prefers that you provide submissions in an attached document and that you write `see attached' in the `type comment' field. USTR prefers submissions in Microsoft Word (.doc) or Adobe Acrobat (.pdf). If you use an application other than those two, please indicate the name of the application in the `type comment' field.

At the beginning of your submission or on the first page (if an attachment), include the following text: (1) 2024 USMCA Autos Report; (2) your organization's name; and (3) that it is a post-hearing submission. Please do not attach separate cover letters, exhibits, annexes, or other attachments to electronic submissions; rather, include any in the same file as the submission itself, not as separate files. You will receive a tracking number upon completion of the submission procedure at Regulations.gov. The tracking number is confirmation that Regulations.gov received your submission. Keep the confirmation for your records. USTR is not able to provide technical assistance for Regulations.gov.

For further information on using Regulations.gov, please consult the resources provided on the website by clicking on `How to Use Regulations.gov' on the bottom of the home page. USTR may not consider submissions that you do not make in accordance with these instructions.

If you are unable to provide submissions as requested, please contact Justin Hoffmann, Deputy Assistant U.S. Trade Representative for Market Access and Industrial Competitiveness, in advance of the deadline at Justin.D.Hoffmann@ustr.eop.gov or (202) 395-2990, to arrange for an alternative method of transmission. USTR will not accept hand-delivered submissions. General information concerning USTR is available at www.ustr.gov.

If you ask USTR to treat information you submit as business confidential information (BCI), you must certify that the information is business confidential and you would not customarily release it to the public. For any comments submitted electronically containing BCI, the file name of the business confidential version should begin with the characters `BCI.' You must clearly mark any page containing BCI with `BUSINESS CONFIDENTIAL' at the top of that page. Filers of submissions containing BCI also must submit a public version of their submission that will be placed in the docket for public inspection. The file name of the public version should begin with the character `P.'

USTR will post written submissions in the docket for public inspection, except properly designated BCI. You can view submissions at Regulations.gov by entering Docket Number USTR-2023-0013 in the search field on the home page.

Juan Millan,
Acting General Counsel, Office of the United States Trade Representative.

[FR Doc. 2024-03050 Filed 2-13-24; 8:45 am]

BILLING CODE 3390-F4-P